DEPARTMENT OF COMMERCE

United States Patent and Trademark Office

Patents External Quality Survey

ACTION: Proposed collection; comment request.

SUMMARY: The United States Patent and Trademark Office (USPTO), as part of its continuing effort to reduce paperwork and respondent burden, invites the general public and other Federal agencies to take this opportunity to comment on this extension of a continuing information collection, as required by the Paperwork Reduction Act of 1995, Public Law 104-13 (44 U.S.C. 3506(c)(2)(A)).

DATES: Written comments must be submitted on or before December 8, 2015.

ADDRESSES: You may submit comments by any of the following methods:

• Email: InformationCollection@uspto.gov. Include `0651-0057 comment' in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Martin Rater, Management Analyst, Office of Patent Quality Assurance, United States Patent and Trademark Office, P.O. Box 1450, Alexandria, VA 22313- 1450; by telephone at 571-272-5966; or by email to Martin.Rater@USPTO.GOV, with “0651-0057 comment” in the subject line. Additional information about this collection is also available at http://www.reginfo.gov under “Information Collection Review.”

SUPPLEMENTARY INFORMATION:

I. Abstract

The USPTO developed the Patents External Quality Survey in 2006 as part of its quality improvement efforts. This survey narrows the focus of customer satisfaction to examination quality and uses a longitudinal, rotating panel design to assess changes in customer perceptions and to identify key areas for examiner training and opportunities for improvement. The USPTO plans to survey patent agents, attorneys, and other individuals from large domestic corporations (including those with 500+ employees), small and medium-size businesses, and universities and other non-profit research organizations. In addition, the USPTO also plans to survey independent inventors. The USPTO does not plan to survey foreign entities.

The USPTO will draw a random sample of these customers from their database. Due to the rotating panel design, some sample members will be surveyed twice in order to measure change over a period of time. Each year of the survey will include two waves of data collection.

The Patents External Quality Survey is a mail survey, although respondents can also complete the survey electronically on the Web. The content of both versions will be identical. A survey packet containing the questionnaire, a separate cover letter prepared by the Deputy Commissioner of Patent Quality, a postage-paid, pre-addressed return envelope, and instructions for completing the survey electronically will be mailed to all sample members. A pre-notification letter, reminder/thank you postcards, and telephone calls will be used to encourage response from sample members.

This is a voluntary survey and all responses will remain confidential. The collected data will not be linked to the respondent and contact information that is used for sampling purposes will be maintained in a separate file from the quantitative data. Respondents are not required to provide any identifying information such as their name, address, or Social Security Number. In order to access and complete the online survey, respondents will need to use the username, password, and survey ID number provided by the USPTO.

II. Method of Collection

Electronically via email; by postal mail, facsimile, or hand delivery in paper form.

III. Data

OMB Number: 0651-0057.

IC Instruments and Forms: No form numbers.

Type of Review: Revision of a currently previously existing Information Collection.

Affected Public: Individuals or households; businesses or other for-profits; and non-profit institutions.

Estimated Number of Respondents: 3,100 responses per year.

Estimated Time per Response: The USPTO estimates that it will take the public 10 minutes (.17 hours) to submit a single item in this collection, including: The time to gather the necessary information, prepare the appropriate form or petition, and submit the completed request to the USPTO. The time per response, estimated annual responses, and estimated annual hour burden associated with each instrument in this collection are shown in the table below.

Estimated Total Annual Respondent Burden Hours: 516.67 hours.

Estimated Total Annual Respondent (Hourly) Cost Burden: $211,834.70. The USPTO expects that attorneys will complete these applications. The professional hourly rate for attorneys is $410. Using this hourly rate, the USPTO estimates that the total respondent cost burden for this collection is $211,834.70 per year.

IC No. | Item | Hours | Responses (yr) | Burden (hrs/yr) | Rate ($/hr)
|  | (a) | (b) | (c) (a) × (b) | (d)
1 | Patents External Quality Survey | 0.17 | 465 | 77.5 | $410.00
2 | Electronic Patents External Quality Survey | 0.17 | 2,635 | 439.17 | 410.00
Total |  |  | 3,100 | 516.67 |

Estimated Total Annual (Non-hour) Respondent Cost Burden: $0. There are no annual (non-hour) costs associated with this information collection. Respondents do not need to submit filing fees with these surveys. The USPTO covers the costs of all survey materials and provides postage-paid, pre-addressed return envelopes for the completed mail surveys so there are no postage costs associated with this information collection.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Dated: October 2, 2015.
Marcie Lovett,
Records Management Division Director, USPTO, Office of the Chief Information Officer.

[FR Doc. 2015-25826 Filed 10-8-15; 8:45 am]

BILLING CODE 3510-16-P